DEPARTMENT OF THE INTERIOR

Bureau of Reclamation

[RR03250000, XXXR4079V4, RX.12256210.2029600]

Notice To Reopen the Public Scoping Comment Period and Notice of One Additional Public Scoping Meeting for the Navajo Generating Station-Kayenta Mine Complex Project, Arizona

AGENCY: Bureau of Reclamation, Interior.

ACTION: Notice.

SUMMARY: The Bureau of Reclamation is reopening the public scoping comment period for the Navajo Generating Station-Kayenta Mine Complex Project environmental impact statement from July 7, 2014 through August 31, 2014. We are also announcing that one additional scoping meeting will be held in Hotevilla, Arizona, on August 14, 2014.

DATES: Submit written comments on the scope of the environmental impact statement on or before August 31, 2014.

The additional public scoping meeting will be held on August 14, 2014, 9 a.m. to 12 p.m., and again from 4 p.m. to 7 p.m. (Pacific Daylight Time), Hotevilla, Arizona.

ADDRESSES: Send written comments on the scope of the environmental impact statement to the Phoenix Area Office, Bureau of Reclamation (ATTN: NGSKMC-EIS), 6150 W. Thunderbird Road, Glendale, AZ 85306-4001; via facsimile to (623) 773-6486; or email to NGSKMC-EIS@usbr.gov.

The additional public scoping meeting will be held at the Hotevilla Youth and Elderly Center, 1 Main Street, Hotevilla, AZ 86030.

FOR FURTHER INFORMATION CONTACT: Ms. Sandra Eto, (623) 773-6254; or by email at NGSKMC-EIS@usbr.gov. Additional information is available online at http://www.ngskmc-eis.net.

SUPPLEMENTARY INFORMATION: The Bureau of Reclamation published a notice of intent in the Federal Register on May 16, 2014 (79 FR 28546). The public comment period ended on July 7, 2014. We will hold one additional scoping meeting in Hotevilla, Arizona, to provide an overview of the project and allow public comment and discussion. The public scoping meeting will be held in an open house format; no formal presentation will be made. Navajo and Hopi interpreters will be present.

Special Assistance for Public Scoping Meeting

If special assistance is required at the scoping meeting, please contact Ms. Sandra Eto at (623) 773-6254; or email your assistance needs to NGSKMC-EIS@usbr.gov, along with your name and telephone number. Please indicate your needs at least 2 weeks in advance of the meeting to enable Reclamation to secure the needed services. If a request cannot be honored, the requestor will be notified.

Public Disclosure

Before including your address, phone number, email address, or other personal identifying information in your comment, you should be aware that your entire comment—including your personal identifying information—may be made publicly available at any time. While you can ask us in your comment to withhold your personal identifying information from public review, we cannot guarantee that we will be able to do so.

Dated: July 22, 2014.
Robert Quint,
Acting Deputy Commissioner Operations.

[FR Doc. 2014-17594 Filed 7-24-14; 8:45 am]

BILLING CODE 4310-MN-P